DEPARTMENT OF COMMERCE

National Oceanic and Atmospheric Administration

RIN 0648-XA600

Notice of Availability for a Finding of No Significant Impact and Environmental Assessment for Emergency Restoration of Seagrass Impacts From the Deepwater Horizon Oil Spill Response

AGENCY: National Marine Fisheries Service (NMFS), National Oceanic and Atmospheric Administration (NOAA), Commerce.

ACTION: Notice of availability; request for comments.

SUMMARY: Officials of the National Oceanic and Atmospheric Administration of the U.S. Department of Commerce (NOAA); U.S. Department of Interior; and the five states of Florida, Alabama, Mississippi, Louisiana and Texas are all designated, pursuant to section 1006(b) of the Oil Pollution Act of 1990 (OPA), as trustees (Trustees) for natural resources harmed by this Incident. NOAA is serving as the Lead Administrative Trustee (LAT) for this emergency seagrass restoration. Under the National Environmental Policy Act, an Environmental Assessment for Emergency Restoration of Seagrass Impacts from the Deepwater Horizon Oil Spill Response (EA) was completed by NOAA, and a Finding of No Significant Impact (FONSI) was signed on July 8, 2011.

DATES: Comments on this EA and FONSI must be received by August 16, 2011.

ADDRESSES: Submit comments to: Kay McGraw, NOAA Restoration Center, Rm 15862, 1315 East West Highway, Silver Spring, MD 20910; or electronically to Kay.McGraw@noaa.gov.

FOR FURTHER INFORMATION CONTACT: Patricia A. Montanio, 301-427-8600.

SUPPLEMENTARY INFORMATION: The purpose of this project is to address injuries to seagrass beds that resulted from Deepwater Horizon (DWH) oil spill response activities. The injuries were caused by motorized boats, and included propeller scars, blowholes from response vessels, and scouring from boom curtains and anchor tethers. The proposed action will restore damaged seagrass beds and decrease risk of secondary injury to nearby seagrass communities. The environmental review process led NOAA to conclude that this action will not have a significant effect on the human environment, therefore an environmental impact statement will not be prepared.

Section 990.26(d) of OPA requires the Trustees to provide notice to the public, to the extent practicable, of any planned emergency restoration actions. Trustees must also provide public notice of the justification for, nature and extent of, and results of emergency restoration actions within a reasonable time frame. NOAA is expediting regulatory clearance of this action due to the emergency nature of it. The Trustees believe the best method to address this requirement is to post a copy of the FONSI and EA on NOAA's Deepwater Horizon Web site at http://www.gulfspillrestoration.noaa.gov/. The documents will be available there on August 1, 2011.

NOAA believes it is important to undertake the restoration immediately in order to minimize the possibility of further adverse sea grass impacts that may occur in the absence of immediate action, such as secondary damage that may result from storms or other events. NOAA will accept public comments on this EA and FONSI until August 16, 2011. All comments will be fully considered and included in the administrative record for this action.

Dated: July 26, 2011.
Brian Pawlak,
Acting Director, Office of Habitat Conservation, National Marine Fisheries Service.

[FR Doc. 2011-19403 Filed 7-29-11; 8:45 am]

BILLING CODE 3510-22-P